DEPARTMENT OF ENERGY

Federal Energy Regulatory Commission

[Project No. 77-212]

Pacific Gas and Electric Company; Notice of Availability of Final Environmental Assessment

October 14, 2009.

In accordance with the National Environmental Policy Act of 1969, as amended, and the Federal Energy Regulatory Commission's regulations, 18 CFR Part 380 (Order No. 486, 52 FR 47879), the Commission has reviewed an application, filed August 26, 2008 and supplemented January 30, 2009, requesting approval of a proposed plan to provide spring frost protection and late fall irrigation water for commercial crops and hay in the Potter Valley Project area, FERC Project No. 77. Commission staff has prepared a final Environmental Assessment (EA) and in the final EA, staff analyzed the potential environmental effects of the proposed plan and concludes that approval of the plan, with appropriate environmental measures, would not constitute a major federal action significantly affecting the quality of the human environment.

The Order Granting Amendment of License Article 52 was issued on October 14, 2009 and the final EA is attached to the order. A copy of the final EA is also on file with the Commission and is available for public inspection. The final EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Kimberly D. Bose,
Secretary.

[FR Doc. E9-25254 Filed 10-20-09; 8:45 am]

BILLING CODE 6717-01-P